DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221 (a) of the Act.

The purpose of each of the investigations is to determine whether the workers are eligible to apply for adjustment assistance under Title II, chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than December 28, 2001.

Interested persons are invited to submit written comments regarding the subject matter of the investigations to the Director, Division of Trade Adjustment Assistance, at the address shown below, not later than December 28, 2001.

The petitions filed in this case are available for inspection at the Office of the Director, Division of Trade Adjustment Assistance, Employment and Training Administration, U.S. Department of Labor, Room C-5311, 200 Constitution Avenue, NW., Washington, DC 20210.

Signed at Washington, DC this 19th day of November, 2001.
Edward A. Tomchick,
Director, Division of Trade Adjustment Assistance.

Appendix
[Petitions instituted on 11/19/2001]
TA-W | Subject firm (petitioners) | Location | Date of petition | Product(s)
40,356 | Littonian Shoe (Co.) | Littlestown, PA | 11/13/2001 | Children's Shoes.
40,357 | Flextronics International (Co.) | Palm Harbor, FL | 11/07/2001 | Assemble Electronic Boards.
40,358 | Precon New Products (Wkrs) | Boise, ID | 10/29/2001 | Retractable Phone Cards.
40,359 | Nocona Athletic Goods (Co.) | Nocona, TX | 10/18/2001 | Baseball Gloves and Mitts.
40,360 | Reptron Manufacturing (Wkrs) | Gaylord, MI | 11/08/2001 | Electronic Circuit Boards.
40,361 | Donaldson Company (Co.) | Bloomington, MN | 11/09/2001 | Air Cleaning Equipment.
40,362 | American Tissue Mills (Wkrs) | Augusta, ME | 11/05/2001 | Tissue Paper.
40,363 | William Carter Co. (The) (Co.) | Barnesville, GA | 11/09/2001 | Children's Apparel.
40,364 | Nutec Tooling Systems (Co.) | Meadville, PA | 10/15/2001 | Design and Build Jigs and Fixtures.
40,365 | Saucony, Inc (Co.) | Bangor, ME | 11/09/2001 | Athletic Footwear.

OTAA Institutions
[Petitions Instituted on 11/19/2001; Contact: Regina Chapman (202) 219-5555]
Subject firm (petitioners) | Location | Contact person | Telephone | TA-W No. | Date of petition
Littonian Shoe (Co.) | Littlestown, PA | Laverne L. Leese | 717-359-5194 | 40,356 | 11/13/2001
Flextronics International (Co.) | Palm Harbor, FL | John Robinson | 727-939-4417 | 40,357 | 11/07/2001
Precon New Products (Wkrs) | Boise, ID | John Quapp | 208-323-1003 | 40,358 | 10/29/2001
Nocona Athletic Goods (Co.) | Nocona, TX | Robert M Storey, Jr | 940-825-3326 | 40,359 | 10/18/2001
Reptron Manufacturing (Wkrs) | Gaylord, MI | Lindsey Adams | 989-732-6244 | 40,360 | 11/08/2001
Donaldson Company (Co.) | Bloomington, MN | Steve Michel | 952-887-3555 | 40,361 | 11/09/2001
American Tissue Mills (Wkrs) | Augusta, ME | Craig Gray | 207-622-9900 | 40,362 | 11/05/2001
William Carter Co. (The) (Co.) | Barnesville, GA | Tammie T. Merritt | 770-233-2140 | 40,363 | 11/09/2001
Nutec Tooling Systems (Co.) | Meadville, PA | Bruce Courtney | 814-724-6336 | 40,364 | 10/15/2001
Saucony, Inc (Co.) | Bangor, ME | Kerry Smith | 978-532-9000 | 40,365 | 11/09/2001

[FR Doc. 01-31137 Filed 12-17-01; 8:45 am]

BILLING CODE 4510-30-M